DEPARTMENT OF THE INTERIOR

Bureau of Land Management

[UT0110-1610-029J]

Notice of Availability of the Draft Resource Management Plan and Draft Environmental Impact Statement for the Kanab Field Office in Kane and Garfield Counties, UT

AGENCY: Bureau of Land Management, Interior.

ACTION: Notice of availability.

SUMMARY: In accordance with the National Environmental Policy Act of 1969 (NEPA, 42 U.S.C. 4321 et seq.) and the Federal Land Policy and Management Act of 1976 (FLPMA, 43 U.S.C. 1701 et seq.), the Bureau of Land Management (BLM) hereby gives notice that the Kanab Draft Resource Management Plan and Draft Environmental Impact Statement (DRMP/DEIS) is available for a 90-day public review and comment period. This notice also meets requirements in 43 CFR 1610.7-2(b) concerning designation of proposed Areas of Critical Environmental Concern ACECs) and specification of resource use limitations for each proposed ACEC.

DATES: To ensure that your written comments on the DRMP/DEIS will be considered, they should be submitted to the BLM within 90 days following the date the Environmental Protection Agency publishes its notice of availability in the Federal Register. The BLM will announce public meetings and other public-involvement activities at least 15 days in advance through public notices, news releases, direct mailings, and on the project Web site at: http://www.blm.gov/rmp/ut/kanab/. Public meetings will be held in Kanab, Panguitch, St. George, Escalante and Salt Lake City, Utah, and in other locations if warranted.

ADDRESSES: Address written comments to: RMP Comments, Kanab Field Office, Bureau of Land Management, 318 North 100 East, Kanab, Utah 84741. Comments may also be faxed to the Field Office at 435-644-4620, or submitted electronically by e-mail at: UT_Kanab_Comments@blm.gov. Comments and information submitted on the DRMP/EIS, including names, email addresses, and street addresses of respondents, will be available for public review and disclosure at the above address. The BLM will not accept anonymous comments. Before including your address, phone number, e-mail address, or other personal identifying information in your comment, you should be aware that your entire comment—including your personal identifying information—may be made publicly available at any time. While you can ask us in your comment to withhold your personal identifying information from public review, we cannot guarantee that we will be able to do so.

FOR FURTHER INFORMATION CONTACT: For further information or to have your name added to the Kanab RMP mailing list, visit the RMP Web site: http://www.blm.gov/rmp/ut/kanab/. You may also contact Keith Rigtrup, Land Use Planner, Kanab Field Office, 318 North 100 East, Kanab, Utah 84741, phone 435-644-4600. The DRMP/DEIS may be viewed and downloaded in portable document format (PDF) at the project Web site: http://www.blm.gov/rmp/ut/kanab/. Copies of the DRMP/DEIS are also available at the BLM Kanab Field Office.

SUPPLEMENTARY INFORMATION: The DRMP/DEIS addresses public lands and resources, including the Federal mineral estate, managed by the Kanab Field Office in Kane and Garfield Counties, Utah. These lands and resources are currently managed under five land use plans: Cedar-Beaver-Garfield-Antimony RMP (1986), Escalante Management Framework Plan (MFP) (1981), Paria MFP (1981), Vermilion MFP (1981), and Zion MFP (1981). The planning area includes approximately 550,000 acres of BLM-administered surface lands and an additional 96,600 acres of Federally-owned minerals under Federal, state, and private lands in the area. Decisions in the Kanab RMP will only apply to BLM-administered public lands and Federal mineral estate. The DRMP/DEIS proposes and analyzes four alternatives for future management of the public lands and resources in the planning area.

• Alternative A (No Action): Proposes to continue existing management, which is defined by five existing land use plans currently prescribing the management of public lands and the Federal mineral estate within the Kanab Field Office.

• Alternative B (BLM's Preferred Alternative): Proposes managing the public lands and Federal mineral estate for multiple uses and sustaining the health, diversity, and productivity of the lands for present and future generations, balancing resource protection with resource or commodity production and use.

• Alternative C: Proposes managing the lands and resources with an emphasis on resource protection, including managing for wilderness characteristics (naturalness, and outstanding opportunities for solitude and primitive recreation), ACECs, and Wild and Scenic Rivers.

• Alternative D: Proposes managing the lands and resources with an emphasis on encouraging commodity production and use.

Examples of issues considered in the DRMP/DEIS include access and transportation, recreation and off-highway vehicle management, special designations (including ACECs and suitability findings for eligible wild and scenic rivers, among others), range management and livestock, oil and gas leasing, mining, special status species, and non-WSA lands with wilderness characteristics. As required by law, the DRMP/DEIS considers the designation and protection of ACECs. ACEC values and resource use limitations vary by ACEC, and the ACECs themselves vary by alternative. (Refer to the table below.) More detailed management prescriptions in these areas are provided in the DRMP/DEIS.

Values and use limitations | Alt. A (no action) | Alt. B (preferred) | Alt. C | Alt. D
Water Canyon/South Fork Indian Canyon ACEC
Values: Scenery, recreational, botanical, and biological values.
Limitations: For alternatives where an ACEC would be designated, the management constraints are listed below.
Off Highway Vehicle (OHV) Designations | • 220 acres would be limited to existing roads and trails; 0 miles of open routes | • 220 acres would be designated and managed as part of the Cottonwood Canyon ACEC | • 220 acres would be designated and managed as part of the Cottonwood Canyon ACEC | ACEC not designated.
Oil and Gas Leasing | • 220 acres overlapping with a Wilderness Study Area (WSA) would be closed to leasing | • 220 acres would be designated and managed as part of the Cottonwood Canyon ACEC | • 220 acres would be designated and managed as part of the Cottonwood Canyon ACEC | ACEC not designated.
Mineral Entry | • 220 acres would be proposed for withdrawal | • 220 acres would be designated and managed as part of the Cottonwood Canyon ACEC | • 220 acres would be designated and managed as part of the Cottonwood Canyon ACEC | ACEC not designated.
Other | • Until an activity plan is developed, fire suppression would be determined on a case-by-case basis as an interim management tool | • 220 acres would be designated and managed as part of the Cottonwood Canyon ACEC | • 220 acres would be designated and managed as part of the Cottonwood Canyon ACEC | ACEC not designated.
Cottonwood Canyon potential ACEC
Values: Scenery, cultural resources, wildlife, and natural processes.
Limitations: For alternative(s) where an ACEC would be designated, the management constraints are listed below.
Visual Resource Management (VRM) | ACEC not designated | • 2,400 acres would be Class I where the ACEC overlaps with a WSA • 1,400 acres would be Class II | • 3,700 acres would be Class I, where the ACEC overlaps with a WSA, suitable Wild and Scenic River segments, and lands with Wilderness Characteristics (WC)) • 100 acres would be Class II | ACEC not designated.
OHV Designations | ACEC not designated | • 3,800 acres would be limited to designated routes, and 4 miles of open routes | • 3,800 acres would be closed | ACEC not designated.
Livestock Grazing | ACEC not designated | • Water Canyon Allotment would be unavailable for livestock grazing | • Water Canyon Allotment would be unavailable for livestock grazing | ACEC not designated.
Rights Of Way (ROWs) | ACEC not designated | ACEC not designated | • 3,800 acres would be closed to new ROWs | ACEC not designated.
Oil and Gas Leasing | ACEC not designated | • 1,400 acres would be open to leasing with major constraints (NSO) • 2,400 acres where the ACEC overlaps a WSA would be closed to leasing | • 3,800 acres would be closed to leasing | ACEC not designated.
Mineral Entry | ACEC not designated | • 3,800 acres would be proposed for withdrawal | • 3,800 acres would be proposed for withdrawal | ACEC not designated.
Mineral Material Sales | ACEC not designated | • 3,800 acres would be closed | • 3,800 acres would be closed | ACEC not designated.
Other | ACEC not designated | • Retain all lands and interests in land in Federal ownership. Work with the School and Institutional Trust Lands Administration (SITLA) to acquire state inholdings | • Retain all lands and interests in land in Federal ownership. Work with SITLA to acquire state inholdings | ACEC not designated.
Welsh's Milkweed potential ACEC
Values: Scenery, rare geologic feature, Coral Pink Sand Dunes tiger beetle, Welsh's Milkweed.
Limitations: For alternative(s) where an ACEC would be designated, the management constraints are listed below.
VRM | ACEC not designated | ACEC not designated | • 1,250 acres would be Class I where the ACEC overlaps with a WSA • 50 acres would be Class II | ACEC not designated.
OHV Designations | ACEC not designated | ACEC not designated | • 1,300 acres would be closed to OHV designations | ACEC not designated.
ROWs | ACEC not designated | ACEC not designated | • 1,300 acres would be closed to new ROWs | ACEC not designated.
Oil and Gas Leasing | ACEC not designated | ACEC not designated | • 1,300 acres would be closed to leasing | ACEC not designated.
Mineral Entry | ACEC not designated | ACEC not designated | • 1,300 acres would be proposed for withdrawal | ACEC not designated.
Mineral Material Sales | ACEC not designated | ACEC not designated | • 1,300 acres would be closed | ACEC not designated.
Forest Product Sales | ACEC not designated | ACEC not designated | • 1,300 acres would be closed to forest product sales (woodcutting, posts, Christmas trees) | ACEC not designated.
Other | ACEC not designated | ACEC not designated | • Retain all lands and interest in land in Federal ownership • Close to wilding collection without a permit • Prohibit motorized use in and through islands of vegetation in designated critical habitat for Welsh's Milkweed (790 acres) | ACEC not designated.
Vermilion Cliffs potential ACEC
Values: Scenery, cultural resources, wildlife and natural process.
Limitations: For alternative(s) where an ACEC would be designated, the management constraints are listed below.
VRM | ACEC not designated | ACEC not designated | • 11,100 acres would be designated as Class I where the ACEC overlaps with WC • 12,300 acres would be designated as Class II | ACEC not designated.
OHV Designations | ACEC not designated | ACEC not designated | • 11,100 acres would be closed (WC) • 12,300 acres would be limited to designated routes, and 49 miles of open routes | ACEC not designated.
ROWs | ACEC not designated | ACEC not designated | • 23,400 acres would be closed to new ROWs | ACEC not designated.
Oil and Gas Leasing | ACEC not designated | ACEC not designated | • 12,300 acres would be open to leasing with major constraints (No Surface Occupancy (NSO)) • 11,100 acres would be closed to leasing: (WC) | ACEC not designated.
Mineral Entry | ACEC not designated | ACEC not designated | • 23,400 acres would be proposed for withdrawal | ACEC not designated.
Other | ACEC not designated | ACEC not designated | • Restrict climbing within spatial and seasonal buffers surrounding raptor nests • Retain lands and interests in land in Federal ownership. Work with SITLA to acquire state inholdings | ACEC not designated.
White Cliffs potential ACEC
Values: Scenery, cultural resources, wildlife and natural processes.
Limitations: For alternative(s) where an ACEC would be designated, the management constraints are listed below.
VRM | ACEC not designated | ACEC not designated | • 26,000 acres would be designated as Class I because it overlaps with WC | ACEC not designated.
OHV Designations | ACEC not designated | ACEC not designated | • 26,000 acres would be closed because it overlaps with WC | ACEC not designated.
ROWs | ACEC not designated | ACEC not designated | • 26,000 acres would be closed to new ROWs | ACEC not designated.
Oil and Gas Leasing | ACEC not designated | ACEC not designated | • 26,000 acres would be closed to leasing because it overlaps with WC | ACEC not designated.
Mineral Entry | ACEC not designated | ACEC not designated | • 26,000 acres would be proposed for withdrawal | ACEC not designated.
Other | ACEC not designated | ACEC not designated | • Restrict climbing within spatial and seasonal buffers surrounding raptor nests • Retain lands and interests in land in Federal ownership. Work with SITLA to acquire state inholdings | ACEC not designated.
Parunuweep Canyon potential ACEC
Values: Scenery, cultural resources, and wildlife.
Limitations: For alternative(s) where an ACEC would be designated, the management constraints are listed below.
VRM | ACEC not designated | ACEC not designated | • 6,100 acres would be designated as Class I because it overlaps with a WSA | ACEC not designated.
OHV Designations | ACEC not designated | ACEC not designated | • 6,100 acres would be closed because it overlaps with a WSA | ACEC not designated.
ROWs | ACEC not designated | ACEC not designated | • Avoid new ROWs in 6,100 acres | ACEC not designated.
Oil and Gas Leasing | ACEC not designated | ACEC not designated | • 6,100 acres would be closed to leasing | ACEC not designated.
Mineral Entry | ACEC not designated | ACEC not designated | • 6,100 acres would be proposed for withdrawal | ACEC not designated.
Other | ACEC not designated | ACEC not designated | • Limit camping associated with Special Recreation Permits (SRPs) to areas/sites identified during permitting • Regulate rock climbing within 300 feet of cultural sites. Climbing routes that impact cultural resource sites would not be allowed, and climbing routes designed to access cultural resource sites would not be allowed unless under permit for scientific investigation • Preclude SRP tours or visitation of sites without prior consultation/clearance with BLM archaeologists and other specialists • Restrict climbing within spatial and seasonal buffers surrounding raptor nests • Retain all lands and interest in lands in Federal ownership | ACEC not designated.
Total Acres Designated | 220 acres | 3,800 acres | 60,600 acres | 0

The application of the Federal coal unsuitability criteria to the Alton, Kaiparowits, and Kolob Coal Fields is included in Appendix F of the DRMP/DEIS. As required by 43 CFR 3461.2-1(a)(2), the public is invited to comment on the results of the application of the criteria and the process used to derive these results. The criteria are listed under 43 CFR 3461.5. Additionally, any person who may be adversely affected by adoption of coal leasing decisions in the proposed plan may request a public hearing on coal leasing potential before the DRMP/DEIS is finalized.

Jeff Rawson,
Utah Associate State Director.

[FR Doc. E7-20115 Filed 10-11-07; 8:45 am]

BILLING CODE 4310-$$-P